DEPARTMENT OF COMMERCE

National Oceanic and Atmospheric Administration

RIN: 0648-XW00

North Pacific Fishery Management Council; Public Meeting

AGENCY: National Marine Fisheries Service (NMFS), National Oceanic and Atmospheric Administration (NOAA), Commerce.

ACTION: Notice of a public meeting.

SUMMARY: The North Pacific Fishery Management Council's Crab Plan Team (CPT) will meet in Alaska on May 10-14, 2010.

DATES: The meeting will be held May 10-14, 2010, from 8 a.m. to 5 p.m.

ADDRESSES: The meeting will be held at the Hotel Alyeska, Girdwood, AK, Room Columbia A - May 10-13 and Portage Board Room - May 14.

Council address: North Pacific Fishery Management Council, 605 W. 4th Avenue, Suite 306, Anchorage, AK 99501-2252.

FOR FURTHER INFORMATION CONTACT: Diana Stram; North Pacific Fishery Management Council; telephone: (907) 271-2809.

SUPPLEMENTARY INFORMATION: The Plan Team will discuss recent Council action on EFH/HAPC, review a discussion paper on crab bycatch in groundfish and scallop fisheries and make recommendations, receive presentations on patterns of larval snow crab and a snow crab spatial model, review draft stock assessments and make recommendations on Tier levels and model parameters for 6 stocks and OFL recommendations for Tier 5 stocks and stocks with summer fisheries; review draft economic SAFE report for crab; review revised Annual Catch Limits and Snow crab rebuilding plan analysis and provide recommendations; review revised Pribilof Island blue king crab rebuilding plan analysis and make recommendations; and review and recommend research priorities.

The Agenda is subject to change, and the latest version will be posted at http://www.alaskafisheries.noaa.gov/npfmc/

Although non-emergency issues not contained in this agenda may come before this group for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: April 16, 2010.
William D. Chappell,
Acting Director, Office of Sustainable Fisheries, National Marine Fisheries Service.

[FR Doc. 2010-9245 Filed 4-21-10; 8:45 am]

BILLING CODE 3510-22-S